DEPARTMENT OF TRANSPORTATION

National Highway Traffic Safety Administration

[Docket No. NHTSA-2001-9548; Notice 2]

Bridgestone/Firestone, Inc., Grant of Application for Decision That Noncompliance Is Inconsequential to Motor Vehicle Safety

Bridgestone/Firestone, Inc. (Bridgestone) has determined that approximately 442,479 tires of various sizes and types do not meet the labeling requirements mandated by Federal Motor Vehicle Safety Standard (FMVSS) No. 109, “New Pneumatic Tires.” Pursuant to 49 U.S.C. 30118(d) and 30120(h), Bridgestone petitioned for a determination that this noncompliance is inconsequential to motor vehicle safety and has filed an appropriate report pursuant to 49 CFR Part 573, “Defect and Noncompliance Reports.”

Notice of receipt of the application was published on May 8, 2001, with a 30-day comment period (66 FR 23316). NHTSA received no comments on this application.

The petition covers multiple sizes and types of tires produced in Bridgestone's Wilson, North Carolina, plant during the last week of 2000 and the first week of 2001. The 442,479 affected tires were marked with the incorrect DOT week/year in the DOT serial, the numbering scheme specified for tire manufacture date in 49 CFR Part 574.5, “Tire Identification and Record Keeping, Tire Identification Requirements.” According to Bridgestone, some tires produced during the last production week of 2000 (December 31, 2000 through January 6, 2001) were incorrectly marked with a date of 0101. The correct marking of the four-digit date code for that week is 5300. The remaining noncompliant tires were incorrectly marked 0201 for the week of January 7, 2001 through January 13, 2001. The correct marking for that production week is 0101.

Bridgestone stated that the noncompliance is inconsequential to motor vehicle safety because all affected tires meet all requirements of 49 CFR 571.109, except paragraph S4.3, Labeling Requirements. Also, according to Bridgestone, the erroneous date of manufacture marked on the tires can still be used by the company to identify the tires in the event of a recall, which is the primary purpose for the date of manufacture labeling requirement.

The agency believes that the true measure of inconsequentiality to motor vehicle safety in this case is the effect of the noncompliance on the ability of the tire manufacturer to identify the tires in the event of recall. In this case, the manufacturer did not omit any of the information required by FMVSS No. 109 or the 49 CFR part 574.5, but labeled the date code portion of the tire identification incorrectly. Additionally, the manufacturer's report to the agency (49 CFR Part 573, “Defect and Noncompliance Reports) indicated that the noncompliant tires are documented in the company's records. Based on the information provided by Bridgestone, the agency believes the information included on the tire identification label and the manufacturer's tire production records is sufficient to insure that these tires can be identified in the event of a recall.

In consideration of the foregoing, NHTSA has decided that the applicant has met its burden of persuasion, and that the noncompliance is inconsequential to motor vehicle safety. Accordingly, Bridgestone's application is granted and the company is exempted from providing the notification of the noncompliance that would be required by 49 U.S.C. 30118, and from remedying the noncompliance, as would be required by 49 U.S.C. 30120.

(49 U.S.C. 30118, 30120; delegations of authority at 49 CFR 1.50 and 501.8)

Issued on: August 21, 2001.
Stephen R. Kratzke,
Associate Administrator for Safety Performance Standards.

[FR Doc. 01-21546 Filed 8-24-01; 8:45 am]

BILLING CODE 4910-59-P